DEPARTMENT OF AGRICULTURE

Agricultural Marketing Service

[Docket No. AMS-ST-19-0040]

Notice of Request for Approval of a New Information Collection for “Application for Plant Variety Protection Certification and Objective Description of Variety—Asexually Reproduced Varieties”

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB) for a new information collection, “Application for Plant Variety Protection Certification and Objective Description of Variety—Asexually Reproduced Varieties.”

DATES: Comments must be received by July 15, 2019.

ADDRESSES: Interested persons are invited to submit comments concerning this notice by using the electronic process available at http://www.regulations.gov. Written comments may also be submitted to the Plant Variety Protection Office (PVPO), Science and Technology, Agricultural Marketing Service, USDA, 1400 Independence Avenue SW, Room 4512-S, Stop 0274, Washington, DC 20250 or by facsimile to (202) 260-8976. All comments should reference the docket number AMS-ST-19-0040, the date, and the page number of this issue of the Federal Register.

FOR FURTHER INFORMATION CONTACT: Jeffery Haynes, Deputy Commissioner, Plant Variety Protection Office, AMS Science and Technology Program, USDA; 1400 Independence Avenue SW, Room 4512-S, Stop 0274, Washington, DC 20250-0002; telephone: (202) 260-8983; email: Jeffery.Haynes@ams.usda.gov.

SUPPLEMENTARY INFORMATION:

Title: Application for Plant Variety Protection Certification and Objective Description of Variety—Asexually Reproduced Varieties.

OMB Number: 0581-NEW.

Expiration Date of Approval: This is a NEW collection.

Type of Request: Approval of a NEW information collection.

Abstract: The Plant Variety Protection Act (PVPA) (7 U.S.C. 2321 et seq.) was established to encourage the development of novel varieties of plants and make them available to the public, providing protection available to those who breed, develop, or discover them, and thereby promote progress in agriculture in the public interest.

The Plant Variety Protection program (PVP) is a voluntary user funded program that grants intellectual property rights protection to breeders of new, distinct, uniform, and stable sexually reproduced, tuber propagated, and asexually reproduced plant varieties. To obtain these property rights the applicant must provide information that shows the variety is eligible for protection and that it is indeed new, distinct, uniform and stable as the law requires. Application forms, descriptive forms, and ownership forms must be submitted by each applicant in order for the Plant Variety Protection Office (PVPO) to legally issue a certificate of protection (ownership). The certificate is based on claims of the breeder and cannot be issued on the basis of reports in publications not submitted by the applicant. Regulations implementing the PVPA appear at 7 CFR part 92.

Currently approved forms ST-470, Application for Plant Variety Protection Certificate; ST-470 A, Origin and Breeding History; ST-470 B, Statement of Distinctness; Form ST-470 series, Objective Description of Variety (Exhibit C); and Form ST-470-E, Basis of Applicant's Ownership, are the basis upon which the determination is made by experts at PVPO, whether a new, distinct, uniform, and stable sexually reproduced, or tuber propagated plant variety in fact exists and is entitled to protection (7 U.S.C. F;2402).

The 2018 Farm Bill (the Agriculture Improvement Act of 2018) amended section 2402 of the PVPA (7 U.S.C. F;2402) to include asexually reproduced plant varieties. Breeders can now apply for intellectual property protection for asexually reproduced plant varieties. AMS seeks approval of a new information collection for the application for a certificate of protection for asexually propagated plant varieties. Once approved, AMS will request that the new form be merged into OMB No. 0581-0055, which includes the currently approved ST-470 forms listed above.

The ST-470 application form combines Exhibits A, B, and E into one form. The information received on applications, with certain exceptions, is required by law to remain confidential until a certificate is issued (7 U.S.C. 2421).

The information collection requirements in this request are essential to carry out the intent of the PVPA, to provide applicants with certificates of protection, to provide the respondents the type of service they request, and to administer the program.

Estimate of Burden: Public reporting new burden for this collection of information is estimated to average .86 hours per response. This corresponds to 11.05 hrs. per respondent (total burden hours divided by number of respondents).

Respondents: Businesses or other for-profit, not-for-profit institutions, and Federal Government.

Estimated Number of Respondents: 50.

Estimated Number of Responses per Respondent: 12.82.

Estimated Total Annual Burden on Respondents: 553 (rounded).

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. All comments received will be available for public inspection during regular business hours.

All responses to this notice will be summarized and included in the request for OMB approval. All comments will become a matter of public record.

Dated: May 8, 2019.
Bruce Summers,
Administrator, Agricultural Marketing Service.

[FR Doc. 2019-09839 Filed 5-13-19; 8:45 am]

BILLING CODE 3410-02-P